NUCLEAR REGULATORY COMMISSION

[NRC-2013-0254]

Evaluation of a Proposed Risk Management Regulatory Framework

AGENCY: Nuclear Regulatory Commission.

ACTION: Draft white paper; request for comment.

SUMMARY: The U.S. Nuclear Regulatory Commission (NRC) is seeking public comment on a draft document entitled, “NRC Staff White Paper on Options for Responding to the June 14, 2012 Chairman's Tasking Memorandum on `Evaluating Options Proposed for a More Holistic Risk-Informed, Performance-Based Regulatory Approach' ” (hereinafter referred to as NRC Staff White Paper). The draft NRC Staff White Paper discusses three items that the NRC staff expects to present to the Commission for its consideration: Options for enhancing the risk management approach used to ensure nuclear power reactor safety; re-evaluations of two “improvement activities” from Fukushima Near-Term Task Force Recommendation 1 that the Commission deferred; and consideration of an over-arching, agencywide policy statement on using the risk management approach to ensure safety and security.

DATES: Submit comments by June 11, 2015. Comments received after this date will be considered if it is practical to do so, but the NRC staff is able to assure consideration only for comments received on or before this date. Although the NRC staff will consider all timely comments, the NRC does not intend to prepare detailed comment responses.

ADDRESSES: You may submit comment by any of the following methods (unless this document describes a different method for submitting comments on a specific subject):

• Federal Rulemaking Web site: Go to http://www.regulations.gov and search for Docket ID NRC-2013-0254. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Richard F. Dudley, Office of Nuclear Reactor Regulation, U.S. Nuclear Regulatory Commission, Washington, DC 20555-0001; telephone: 301-415-1116; email: Richard.Dudley@nrc.gov.

SUPPLEMENTARY INFORMATION:

I. Obtaining Information and Submitting Comments

A. Obtaining Information

Please refer to Docket ID NRC-2013-0254 when contacting the NRC about the availability of information for this action. You may obtain publicly-available information related to this action by any of the following methods:

• Federal rulemaking Web site: Go to http://www.regulations.gov and search for Docket ID NRC-2013-0254.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2013-0254 in the subject line of your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

In early 2011, the NRC formed a Risk Management Task Force (RMTF) to evaluate how the agency should be regulating 10 to 15 years in the future. More specifically, the RMTF was chartered “to develop a strategic vision and options for adopting a more comprehensive and holistic risk-informed, performance-based regulatory approach for reactors, materials, waste, fuel cycle, and transportation that would continue to ensure the safe and secure use of nuclear material.” The task force report, NUREG-2150, “A Proposed Risk Management Regulatory Framework” (ADAMS Accession No. ML12109A277), was published in April 2012. The report provides findings and recommendations in two categories. The first category addresses strategic, agencywide issues, recommending that “[t]he NRC should formally adopt the proposed Risk Management Regulatory Framework through a Commission Policy Statement.” The second category addresses what changes could be made in specific regulatory program areas (power reactors, nuclear materials, etc.) in the next several years to support implementation of the risk management regulatory framework.

On June 14, 2012, the NRC Chairman issued a tasking memorandum, “Evaluating Options Proposed for a More Holistic Risk-Informed, Performance-Based Regulatory Approach” (ADAMS Accession No. ML121660102), directing the NRC staff to “. . . review NUREG-2150 and provide a paper to the Commission that would identify options and make recommendations, including the potential development of a Commission policy statement.”

In response to this direction, the NRC staff prepared a draft NRC Staff White Paper (ADAMS Accession No. ML15107A402) that discusses three items it expects to present to the Commission for its consideration. The following discussion briefly describes these three items.

Item 1: Three options for enhancing the risk management approach used to ensure nuclear power reactor safety.

The NRC staff formed a working group to review NUREG-2150 and make recommendations to the Commission regarding possible implementation of an agencywide Risk Management Regulatory Framework (RMRF). The staff's evaluation determined that the existing Policy Statements on “Safety Goals for the Operation of Nuclear Power Plants” (51 FR 30028; August 21, 1986), and “Use of Probabilistic Risk Assessment Methods in Nuclear Regulatory Activities” (60 FR 42622; August 16, 1995), in concert with increasing experience with risk-informed regulation and integrated risk-informed decision making processes, have already established a de-facto RMRF for the nuclear power reactor safety program area. Furthermore, the existing risk-informed regulatory guidance, risk tools, and risk information provide a sufficient foundation to allow the NRC staff to proceed with recommending specific risk management implementation options for nuclear power reactor safety. Therefore, to obtain Commission direction on whether the current risk-informed regulatory approach for nuclear power reactor safety should be enhanced, the NRC staff intends to provide the Commission with an RMRF paper that includes three specific options for increasing the use of risk information. These options are discussed in Section I of the NRC Staff White Paper. The NRC staff is seeking public comments on these options for enhancing the risk management approach for nuclear power reactor safety.

Item 2: Re-evaluations of two “improvement activities” from Fukushima Near-Term Task Force Recommendation 1 that the Commission deferred.

On March 11, 2011, the Great Tohoku Earthquake off the coast of Japan caused a series of events that led to core damage at three of the six nuclear power reactors at the Fukushima Dai-ichi site. The NRC established a senior-level agency task force, referred to as the Near Term Task Force (NTTF), to conduct a review of the NRC's processes and regulations to determine whether the agency should make additional improvements to its regulatory system and to make recommendations to the Commission for its policy direction. The NTTF issued its report on July 12, 2011 (ADAMS Accession No. ML111861807), as an enclosure to Commission Paper, SECY-11-0093, “Near-Term Report and Recommendations for Agency Actions Following the Events in Japan” (ADAMS Accession No. ML11186A959). The NTTF developed 12 overarching recommendations for nuclear power reactors. Recommendation 1 was to establish a “logical, systematic, and coherent regulatory framework for adequate protection that appropriately balances defense-in-depth and risk considerations.” The June 14, 2012, tasking memorandum on the RMTF report also directed the NRC staff to consider, when developing options for the disposition of NTTF Recommendation 1, the regulatory framework recommendations for nuclear power reactors in the RMTF report. The NRC staff provided its evaluation of NTTF Recommendation 1 and the RMTF report recommendations related to nuclear power reactors on December 6, 2013, in SECY-13-0132, “U.S. Nuclear Regulatory Commission Staff Recommendation for the Disposition of Recommendation 1 of the Near-Term Task Force Report” (ADAMS Package Accession No. ML13277A413). In its staff requirements memorandum (SRM) for SECY-13-0132 (ADAMS Accession No. ML14139A104), the Commission closed NTTF Recommendation 1. The Commission directed the NRC staff to reevaluate the objectives of the staff's proposed Improvement Activity 1 (establish new design-basis extension category) and Improvement Activity 2 (establish Commission expectations for defense-in-depth) “in the context of the Commission direction on a long-term Risk Management Regulatory Framework (RMRF). . . .” The NRC staff believes that these two improvement activities are key elements involved in evaluating an RMRF for nuclear power reactors as described in NUREG-2150. Therefore, the NRC staff has reevaluated these improvement activities and provides recommendations for how Improvement Activities 1 and 2 could be addressed under each of the three RMRF nuclear power reactor implementation options discussed in Item 1. These proposed activities are discussed in Section II of the draft NRC Staff White Paper. The NRC staff is seeking public comments on these proposed regulatory framework improvement activities for nuclear power reactor safety.

Item 3: Consideration of an over-arching, agencywide policy statement on using the risk management approach to ensure safety and security.

Early in its review of NUREG-2150, the NRC staff determined that it would provide an example of a conceptual RMRF policy statement for Commission consideration. The RMRF working group drafted a conceptual example of a policy statement and made it publicly available in ADAMS under Accession No. ML13273A517. The NRC staff then published a notice in the Federal Register on November 25, 2013 (78 FR 70354), requesting public comments on the document (ADAMS Accession No. ML13273A493). The NRC staff held public meetings on June 5, 2013 (ADAMS Accession No. ML13197A216), and January 30, 2014 (ADAMS Accession No. ML14064A550). Public comments were accepted and are available at the Federal rulemaking Web site (www.regulations.gov) under Docket ID NRC-2013-0254. The public comments that were received on the draft conceptual agencywide policy statement varied greatly. The NRC staff's overall assessment was that the comments indicated a need to revise the staff's approach. The NRC staff is now seeking public comments on a revised policy statement approach as described in Section III of the draft NRC Staff White Paper.

III. Opportunity for Public Comment

The NRC staff notes that the draft NRC Staff White Paper represents work in progress; the information may be modified before the NRC staff provides its recommendation to the Commission for a decision, as a result of internal NRC review and/or consideration of public comments received. The NRC staff will review and consider all timely comments received on the draft NRC Staff White Paper, but the staff does not intend to provide detailed comment responses for all comments received. Should the Commission proceed with these initiatives, the public will be afforded opportunity to provide formal comment to the NRC through the rulemaking or policy statement development process.

Persons interested in monitoring this activity can do so by searching for Docket ID NRC-2013-0254 on the Federal Rulemaking Web site at https://www.regulations.gov. The Federal Rulemaking Web site allows you to receive alerts when changes or additions occur in a docket folder. To subscribe: (1) Navigate to the docket folder (NRC-2013-0254); (2) click the “Email Alert” link; and (3) enter your email address and select how frequently you would like to receive emails (daily, weekly, or monthly).

Dated at Rockville, Maryland, this 5th day of May, 2015.
For the Nuclear Regulatory Commission.
Lawrence E. Kokajko,
Director, Division of Policy and Rulemaking, Office of Nuclear Reactor Regulation.

[FR Doc. 2015-11454 Filed 5-11-15; 8:45 am]

BILLING CODE 7590-01-P